DEPARTMENT OF TRANSPORTATION

Maritime Administration

[Docket Number: MARAD-2001-10635]

Requested Administrative Waiver of the Coastwise Trade Laws

AGENCY: Maritime Administration, Department of Transportation.

ACTION: Invitation for public comments on a requested administrative waiver of the Coastwise Trade Laws for the vessel Argonaut.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before October 22, 2001.

ADDRESSES: Comments should refer to docket number MARAD-2001-10635. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., e.t., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-build Requirement

(1) Name of vessel and owner for which waiver is requested. Name of vessel: Argonaut. Owner: John G. Edwards.

(2) Size, capacity and tonnage of vessel. According to the applicant: “Gross Tonnage: 23; Net Tonnage: 21; Length: 40.6 Feet; Breadth: 12.1 Feet; Depth: 9.5 Feet”.

(3) Intended use for vessel, including geographic region of intended operation and trade. According to the applicant: “Vessel will primarily offer day and night skippered pleasure sails in the Long Beach and Los Angeles area. The vessel will also be used for special event charters for small parties and other social gatherings. The vessel will be used for skippered charters to Catalina, San Diego, Mexico, Channel Islands, and other California coastal areas. Some commercial operations may require the use of one or two crew members. If chartered for that purpose, the vessel might also be used for whale watching and other excursions of varying lengths, from a few hours to several days.”

(4) Date and Place of construction and (if applicable) rebuilding. Date of construction: 1978. Place of construction: Pali Shiang Taipei Hsien, Taiwan, Republic of China.

(5) A statement on the impact this waiver will have on other commercial passenger vessel operators. According to the applicant: “The commercial usage of the vessel Argonaut should have no adverse effect on other boating operations in the area. The commercial passenger operations in the area consist primarily of large scale harbor tours, pleasure diving and pleasure fishing operations. I am not interested in providing any of those services but wish to fulfill a potential need for a specialized market involving sailing charters to small groups of people. Most other commercial sailing operations are for instructed sailing lessons on small sailing craft. There are some bare-boat charter businesses in the immediate area but the impact should be negligible. The granting of the waiver will have no effect at all upon sailing operations in the area in that they are large scale operations using inspected vessels. I might also offer blue water sailing instruction on a large cruising yacht, which to the best of my knowledge, is not currently offered locally.”

(6) A statement on the impact this waiver will have on U.S. shipyards. According to the applicant: “The granting of a waiver for Argonaut should have a positive impact on the boat and shipyard industries in the area. The business will necessitate the use of yard services from time to time and will require the employment of workers who have the necessary skills to repair and maintain the boat. There should be no negative impact on the shipyards whatsoever.”

Dated: September 13, 2001.
By Order of the Maritime Administrator.
Joel C. Richard,
Secretary, Maritime Administration.

[FR Doc. 01-23506 Filed 9-19-01; 8:45 am]

BILLING CODE 4910-81-P